DEPARTMENT OF COMMERCE

National Oceanic and Atmospheric Administration

50 CFR Part 648

[Docket No. 991104295-9295-01; I.D. 100599D]

RIN 0648-AM74

Fisheries of the Northeastern United States; Dealer and Vessel Reporting Requirements; Reopening of Comment Period

AGENCY: National Marine Fisheries Service (NMFS), National Oceanic and Atmospheric Administration (NOAA), Commerce.

ACTION: Proposed rule; reopening of the comment period.

SUMMARY: NMFS reopens the public comment period on a proposed rule to amend the existing reporting requirements for dealers and for vessels issued a Federal permit to operate in the summer flounder, scup, black sea bass, Atlantic sea scallop, Northeast (NE) multispecies, monkfish, Atlantic mackerel, squid and butterfish, surf clam or ocean quahog fisheries. The provisions of this proposed rule would also be applicable to dealers of spiny dogfish, Atlantic herring and Atlantic bluefish and vessels federally permitted in the spiny dogfish, Atlantic bluefish, and Atlantic herring fisheries when regulations implementing the Spiny Dogfish FMP, Amendment 1 to the Atlantic Bluefish FMP, and the Atlantic Herring FMP go into effect. NMFS is reopening the comment period to ensure that affected fishers and dealers are aware of the proposed reporting changes and have an opportunity to provide comments. Proposed changes include: Increasing the retention schedule for dealer and vessel records; requiring federally-permitted dealers to complete all sections of the Annual Processed Products Report; clarifying that a vessel logbook report must be submitted for each trip taken, not for each day fished; amplifying the existing requirement that vessel logbook reports must be completed prior to entering port with fish; specifying that the pounds recorded on the vessel logbook reports should be the hail weight, by species, of all fish landed or discarded; adding definitions for “hail weight,” “serial number,” and “trip identifier;” requiring vessel owners/operators to provide trip identifier information to dealers; and clarifying the submission schedule for surf clam and ocean quahog dealer and vessel reports.

DATES: Comments must be received on or before 5:00 p.m., local time, on March 2, 2000.

ADDRESSES: Written comments on the proposed rule should be sent to Patricia A. Kurkul, Regional Administrator, Northeast Region, NMFS, One Blackburn Drive, Gloucester, MA 01930. Mark the outside of the envelope, “Comments on Proposed Rule for Dealer and Vessel Reporting.” Comments also may be sent via facsimile (fax) to (978) 281-9161. Comments will not be accepted if submitted via e-mail or Internet.

Comments on the burden hour estimates for collection-of-information requirements contained in this proposed rule should be sent to Patricia A. Kurkul and to the Office of Information and Regulatory Affairs, Attention: NOAA Desk Officer, Office of Management and Budget, Washington, DC 20503.

FOR FURTHER INFORMATION CONTACT: Kelley McGrath, (978) 281-9307 or Gregory Power, (978) 281-9304.

SUPPLEMENTARY INFORMATION: Regulations implementing the FMPs for fisheries of the Northeastern United States were prepared under the authority of the Magnuson-Stevens Fishery Conservation and Management Act and are found at 50 CFR part 648. The provisions of this proposed rule, if approved and implemented, would also be applicable to dealers of spiny dogfish, herring, and bluefish, and to vessels federally permitted in the spiny dogfish, Atlantic bluefish and Atlantic herring fisheries when regulations implementing the Spiny Dogfish FMP, Amendment 1 to the Atlantic Bluefish FMP, and Atlantic Herring FMP go into effect.

The proposed rule for this action was published in the Federal Register on December 2, 1999 (64 FR 67551). The comment period on the proposed rule ended on January 3, 2000. During the public comment period, NMFS received two comments from dealers and no comments from fishers regarding the proposed changes to the reporting regulations. Because the lack of industry response may be an indication that industry members were not sufficiently aware of the proposed reporting changes, NMFS is reopening the comment period to allow the public additional time to review and comment on the proposed rule. The public comment period is reopened for the period February 16, 2000, through March 2, 2000.

Authority: 16 U.S.C. 1801 et seq.

Dated: February 10, 2000.
Andrew A. Rosenberg,
Deputy Assistant Administrator for Fisheries, National Marine Fisheries Service.

[FR Doc. 00-3724 Filed 2-15-00; 8:45 am]

BILLING CODE 3510-22-F